DEPARTMENT OF THE INTERIOR

Bureau of Land Management

[223.LLID957000.L14400000.BJ0000.241A00]

Notice of Filing of Plats of Survey, Idaho

AGENCY: Bureau of Land Management, Interior.

ACTION: Notice of official filing.

SUMMARY: The Bureau of Land Management (BLM) has officially filed the plats of survey of the lands described below in the BLM Idaho State Office, Boise, Idaho. The plats described in this notice were filed on June 28, 2021, and September 22, 2021. The surveys, which were executed at the request of the BLM and the Bureau of Indian Affairs, are necessary for the management of these lands.

ADDRESSES: A copy of the plats may be obtained from the Public Room at the Bureau of Land Management, Idaho State Office, 1387 S Vinnell Way, Boise, Idaho 83709, upon required payment.

FOR FURTHER INFORMATION CONTACT: Timothy A. Quincy, Branch of Cadastral Survey, Bureau of Land Management, 1387 South Vinnell Way, Boise, Idaho, 83709-1657; telephone (208) 373-3981; email: tquincy@blm.gov. Persons who use a telecommunications device for the deaf (TDD) may call the Federal Relay Service (FRS) at (800) 877-8339 to contact Mr. Quincy during normal business hours. The FRS is available 24 hours a day, 7 days a week, to leave a message or question. You will receive a reply during normal business hours.

SUPPLEMENTARY INFORMATION: The plat, in one sheet, incorporating the field notes of the dependent resurvey of a portion of the subdivisional lines and Mineral Survey Number 891 in Township 7 North, Range 6 East, Boise Meridian, Idaho, was accepted June 28, 2021.

The plat, in two sheets, incorporating the field notes of the dependent resurvey of portions of the 7th Standard Parallel North and subdivisional lines, and subdivision of sections 5, 15 and 26, Township 35 North, Range 2 East, Boise Meridian, Idaho, was accepted September 22, 2021.

The plat, in two sheets, incorporating the field notes of the dependent resurvey of portions of the subdivisional lines and the 1885 Meanders of Grays Lake in sections 28, 29, 33 and 34 and certain metes-and-bounds surveys in sections 28, 29, 33 and 34, Township 3 South, Range 43 East, Boise Meridian, Idaho, was accepted September 22, 2021.

The plat, in one sheet, incorporating the field notes of the dependent resurvey of portions of the south boundary and subdivisional lines, and the subdivision of sections 26 and 35, Township 35 North, Range 3 East, Boise Meridian, Idaho, was accepted September 22, 2021.

A person or party who wishes to protest one or more plats of survey identified above must file a written notice with the Chief Cadastral Surveyor for Idaho, Bureau of Land Management, at the address listed in the ADDRESSES section of this notice. The protest must identify the plat(s) of survey that the person or party wishes to protest and contain all reasons and evidence in support of the protest. A protest is considered filed on the date it is received by the Chief Cadastral Surveyor for Idaho during regular business hours; if received after regular business hours, a protest will be considered filed the next business day.

Before including your address, phone number, email address, or other personal identifying information in a protest, you should be aware that the documents you submit, including your personal identifying information, may be made publicly available in their entirety at any time. While you can ask us to withhold your personal identifying information from public review, we cannot guarantee that we will be able to do so.

(Authority: 43 U.S.C., Chapter 3)

Timothy A. Quincy,
Chief Cadastral Surveyor for Idaho.

[FR Doc. 2021-26600 Filed 12-7-21; 8:45 am]

BILLING CODE 4310-GG-P